DEPARTMENT OF AGRICULTURE

Agricultural Marketing Service

[Doc. No. AMS-LS-10-0035]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of the currently approved information collection used to compile and generate cattle, swine, lamb, and boxed beef market news reports under the Livestock Mandatory Reporting Act of 1999.

DATES: Comments on this notice must be received by July 26, 2010 to be assured of consideration.

Additional Information or Comments: Comments may be mailed to Jimmy A. Beard; Assistant to the Chief; Livestock and Grain Market News Branch, Livestock and Seed Program, Agricultural Marketing Service, U.S. Department of Agriculture; STOP 0252; 1400 Independence Avenue, SW.; Room 2619-S; Washington, DC 20250-0252; Phone (202) 720-8054; Fax (202) 690-3732; or e-mailed to the Federal Rulemaking Portal: http://www.regulations.gov or e-mailed to marketnewscomments@usda.gov. State that your comments refer to Docket No. AMS-AMS-10-0012.

FOR FURTHER INFORMATION CONTACT: Michael Lynch, Acting Chief, Livestock and Grain Market News Branch, AMS, USDA, by telephone on 202/720-6231, or via e-mail at: michael.lynch@ams.usda.gov, or Jimmy A. Beard, Assistant to the Chief, Livestock and Grain Market News Branch, AMS, USDA, or by telephone on 202/720-6231, or e-mail at: jimmy.beard@ams.usda.gov.

SUPPLEMENTARY INFORMATION: Title: Livestock Mandatory Reporting Act of 1999.

OMB Number: 0581-0186.

Expiration Date of Approval: 09-30-2010.

Type of Request: Extension of a currently approved information collection.

Abstract: The 1999 Act was enacted into law on October 22, 1999 (Pub. L. 106-78; 7 U.S.C. 1635-1636h), as an amendment to the Agricultural Marketing Act of 1946 (7 U.S.C. 1621-1627). The 1999 Act as originally passed provided for the mandatory reporting of market information by federally inspected livestock processing plants that have slaughtered an average number of livestock during the immediately preceding 5 calendar years (125,000 for cattle and 100,000 for swine), including any processing plant that did not slaughter during the immediately preceding 5 calendar years if the Secretary determines that the plant should be considered a packer based on the plant's capacity. For entities that did not slaughter during the immediately preceding 5 calendar years, such as a new plant or existing plant that begins operations, AMS projects the plant's annual slaughter or production based upon the plant's estimate of annual slaughter capacity to determine which entities meet the definition of a packer as defined in this regulation. The 1999 Act also gave the Secretary the latitude to provide for the reporting of lamb information. Federally inspected lamb processing plants that slaughtered an average of 75,000 head of lambs or processed an average of 75,000 lamb carcasses during the immediately preceding 5 calendar years were required to submit information to AMS. Additionally, a lamb processing plant that did not slaughter an average of 75,000 lambs or process an average of 75,000 lamb carcasses during the immediately preceding 5 calendar years was required to report information if the Secretary determined the processing plant should be considered a packer based on its capacity. In addition, the Act also established that for any calendar year, an importer of lamb that imported an average of 5,000 metric tons of lamb meat products per year during the immediately preceding 5 calendar years, report information on the domestic sales of imported boxed lamb cuts. Additionally, an importer that did not import an average of 5,000 metric tons of lamb meat products during the immediately preceding 5 calendar years was required to report information if the Secretary determined that the person should be considered an importer based on their volume of lamb imports. The regulations implementing the Act appear at 7 CFR, part 59. On September 2, 2004, AMS published a final rule (69 FR 53783) that revised the threshold for importers to 2,500 metric tons and modified the definition of carlot when used in reference to boxed lamb cuts.

The 1999 Act was reauthorized in October 2006, which re-established the regulatory authority and amended the swine reporting requirements to include swine packers that slaughtered an average of at least 200,000 sows, boars, or combination thereof per year during the immediately preceding 5 calendar years. On May 16, 2008, AMS published a final rule (75 FR 28606) implementing the same.

The reports that are generated by the 1999 Act are used by other Government agencies to evaluate market conditions and calculate price levels, such as USDA's Farm Service Agency, that administers the Farmer-owned Reserve Program. Economists at most major agricultural colleges and universities use the reports to make short and long-term market projections. Also, the Government is a large purchaser of livestock and related products. A system to monitor the collection and reporting of data therefore is needed.

The information must be collected, compiled, and disseminated by an impartial third-party, in a manner which protects the confidentiality of the reporting entity. AMS is in the best position to provide this service.

Estimate of Burden: Public reporting burden for this Collection of information is estimated to average .1928 hours per response.

Respondents: Business or other for-profit entities, individuals or households, farms, and the Federal Government.

Estimated Number of Respondents: 389.

Estimated Number of Responses: 118,768.

Estimated Number of Responses per Respondent: 305.

Estimated Total Annual Burden on Respondents: 22,898 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Jimmy A. Beard, 1400 Independence Ave., Room 2619-S; Washington, DC 20250-0252. Comments can be submitted to: http://www.regulations.gov and viewed there as well. All comments received will be available for public inspection during regular business hours at the same address or on the Internet at http://www.ams.usda.gov/lsmnpubs.

All responses to this notice will be summarized and included in the request for OMB approval. All comments will become a matter of public record.

Dated: May 19, 2010.
David R. Shipman,
Acting Administrator, Agricultural Marketing Service.

[FR Doc. 2010-12468 Filed 5-24-10; 8:45 am]

BILLING CODE 3410-02-P